ENVIRONMENTAL PROTECTION AGENCY

[FRL-9158-8]

Science Advisory Board Staff Office; Notification of a Public Meeting of the SAB Lead Review Panel

AGENCY: Environmental Protection Agency (EPA).

ACTION: Notice.

SUMMARY: The EPA Science Advisory Board (SAB) Staff Office announces a public meeting of the SAB Lead Review Panel to provide a consultation on EPA's draft technical analyses that will be used to support the development of lead-based paint dust hazard standards.

DATES: There will be a public meeting held on July 6, 2010 from 9 a.m. to 5 p.m. (Eastern Time) and July 7, 2010 from 9 a.m. to 12 p.m. (Eastern Time).

ADDRESSES: The face-to-face meeting on July 6-7, 2010 will be held at the St. Regis Washington, 923 16th Street, NW., Washington, DC 20006; telephone (202) 638-2626.

FOR FURTHER INFORMATION CONTACT: Any member of the public wishing to obtain information concerning the public meeting may contact Mr. Aaron Yeow, Designated Federal Officer (DFO), EPA Science Advisory Board Staff Office (1400F), U.S. Environmental Protection Agency, 1200 Pennsylvania Avenue, NW., Washington, DC 20460; by telephone/voice mail at (202) 343-9878 or at yeow.aaron@epa.gov. General information about the SAB, as well as any updates concerning the meeting announced in this notice, may be found on the EPA Web site at http://www.epa.gov/sab.

SUPPLEMENTARY INFORMATION: Pursuant to the Federal Advisory Committee Act (FACA), 5 U.S.C., App. 2, notice is hereby given that the SAB Lead Review Panel will hold a public face-to-face meeting to provide a consultation on EPA's draft technical analyses that will be used to support the development of lead-based paint dust hazard standards. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: Human exposure to lead may cause a variety of adverse health effects, particularly in children. EPA's Office of Pollution Prevention and Toxics (OPPT) regulates toxic substances, such as lead, through the Toxic Substances Control Act (TSCA). In 2001, EPA established standards for lead-based paint hazards, which include lead in residential dust. OPPT is developing draft technical analyses that will be used to support possible revision of existing residential lead-based paint dust hazard standards and the development of lead-based paint dust hazard standards for public and commercial buildings. In the future, EPA will also develop draft technical analyses to support the development of lead-safe work practice standards for renovations of public and commercial buildings. OPPT has requested that the SAB conduct a review of these draft technical analyses.

In response to OPPT's request, the SAB Staff Office solicited nominations of experts [Federal Register Notice dated February 5, 2010 (75 FR 6030-6031)] and formed a review panel for Lead. The panel will provide an initial consultation on EPA's draft technical analyses which will be used to support the development of lead-based paint dust hazard standards, followed by a peer review of these technical analyses later in the year. In the future, the panel will also review other EPA draft technical analyses that will be used to support the development of lead-safe work practice standards for renovations of public and commercial buildings. For this initial consultation, the panel is being asked to provide recommendations on the draft approach for developing the hazard standards for floors and window sills in residences and public and commercial buildings including: Selection of health endpoint(s), estimation of lead concentrations in environmental media, lead exposure assessment, conversion of dust loading to dust concentration, and blood lead modeling.

Availability of Meeting Materials: Agendas and materials in support of this meeting will be placed on the EPA Web site at http://www.epa.gov/sab in advance of the meeting. For technical questions and information concerning EPA's draft document, please contact Dr. Jennifer Seed at (202) 564-7634, or seed.jennifer@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public face-to-face meeting will be limited to five minutes, with no more than a total of one hour for all speakers. Each person making an oral statement should consider providing written comments as well as their oral statement so that the points presented orally can be expanded upon in writing. Interested parties should contact Mr. Aaron Yeow, DFO, in writing (preferably via e-mail) at the contact information noted above by June 29, 2010 for the face-to-face meeting, to be placed on the list of public speakers. Written Statements: Written statements should be supplied to the DFO via email at the contact information noted above by June 29, 2010 for the face-to-face meeting so that the information may be made available to the Panel members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Aaron Yeow at (202) 343-9878 or yeow.aaron@epa.gov. To request accommodation of a disability, please contact Mr. Yeow preferably at least ten days prior to each meeting to give EPA as much time as possible to process your request.

Dated: May 26, 2010,
Anthony F. Maciorowski,
Deputy Director, EPA Science Advisory Staff Office.

[FR Doc. 2010-13386 Filed 6-2-10; 8:45 am]

BILLING CODE 6560-50-P